DEPARTMENT OF HEALTH AND HUMAN SERVICES

Food and Drug Administration

Advisory Committees; Filing of Annual Reports

AGENCY: Food and Drug Administration, HHS.

ACTION: Notice.

SUMMARY: The Food and Drug Administration (FDA) is announcing, as required by the Federal Advisory Committee Act, that the agency has filed with the Library of Congress the annual reports of those FDA advisory committees that held closed meetings during fiscal year 2003.

ADDRESSES: Copies are available from the Division of Dockets Management (HFA-305), Food and Drug Administration, 5630 Fishers Lane, rm. 1061, Rockville, MD 20857, 301-827-6860.

FOR FURTHER INFORMATION CONTACT: Theresa L. Green, Committee Management Officer, Advisory Committee Oversight and Management Staff (HF-4), Food and Drug Administration, 5600 Fishers Lane, Rockville, MD 20857, 301-827-1220.

SUPPLEMENTARY INFORMATION: Under section 13 of the Federal Advisory Committee Act (5 U.S.C. app. 2) and 21 CFR 14.60(c), FDA has filed with the Library of Congress the annual reports for the following FDA advisory committees through September 30, 2003:

Center for Biologics Evaluation and Research

Biological Response Modifiers Advisory Committee

Vaccines and Related Biological Products Advisory Committee

Center for Drug Evaluation and Research

Anti-Infective Drugs Advisory Committee

Arthritis Advisory Committee

Cardiovascular and Renal Drug Advisory Committee

Gastrointestinal Drug Advisory Committee

National Center for Toxicological Research

Science Advisory Board to the National Center for Toxicological Research

Advisory Committee on Special Studies Relating to the Possible Long-Term Health Effects of Phenoxy Herbicides and Contaminants (Ranch Hand Advisory Committee)

Center for Devices and Radiological Health

Medical Devices Advisory Committee (consisting of reports for the Circulatory System Devices Panel; Gastroenterology and Urology Devices Panel; General and Plastic Surgery Devices Panel; Dental Products Panel; Obstetrics and Gynecology Devices Panel; Neurological Devices Panel; Ophthalmic Devices Panel; Orthopaedic and Rehabilitation Devices Panel; Radiological Devices Panel)

Annual reports are available for public inspections between 9 a.m. and 4 p.m., Monday through Friday at the following locations:

1. The Library of Congress, Madison Bldg., Newspaper and Current Periodical Reading Room, 101 Independence Ave. SE., rm. 133, Washington, DC; and

2. The Division of Dockets Management (HFA-305), Food and Drug Administration, 5630 Fishers Lane, rm. 1061, Rockville, MD 20852.

Dated: December 15, 2003.
Peter J. Pitts,
Associate Commissioner for External Relations.

[FR Doc. 03-31494 Filed 12-22-03; 8:45 am]

BILLING CODE 4160-01-S